DEPARTMENT OF JUSTICE

Notice of Lodging of First Round De Minimis Consent Decree Under the Comprehensive Environmental Response, Compensation and Liability Act

Notice is hereby given that on January 6, 2005, a proposed First Round De Minimis Consent Decree in United States v. Aetna Inc., et al. Civil Action No. 05-15, (Related Case United States v. Allegheny Ludlum Corp., et al., C.A. No. 97-1863) was lodged with the United States District Court for the Western District of Pennsylvania.

In the Aetna, Inc., et al. action the United States seeks the recovery of response costs incurred in connection with the Breslube Penn Superfund Site, located in Coraopolis, Moon Township, Pennsylvania. The complaint alleges that each of the named defendants either arranged for the treatment and/or disposal of wastes containing hazardous substances at the Site, or transported wastes containing hazardous substances to the Site, and selected the Site, within 42 U.S.C. 9607(a). The complaint names 72 defendants, each of which have signed the proposed First Round De Minimis Consent Decree. Under the Consent Decree, each of the 72 named defendants would pay a proportionate share of all past and future response costs incurred and to be incurred at the Site, plus a premium. Further, under the Consent Decree, all Federal agencies that had wastes treated and/or disposed of at the Site, shall likewise pay a proportionate share of all past and future response costs incurred and to be incurred at the Site, plus a premium. In return for these payments, the 72 defendants and Federal agencies would receive a covenant not to sue (or not to take administrative action) by the United States, subject to certain reservations of rights, and contribution protection from suit by other potentially responsible parties. The total recovery under this Consent Decree should be approximately $890,000.

The Department of Justice will receive for a period of thirty (30) days from the date of this publication comments relating to the First Round De Minimis Consent Decree in United States v. Aetna, Inc., et al. Comments should be addressed to the Assistant Attorney General, Environment and Natural Resources Division, PO Box 7611, U.S. Department of Justice, Washington, DC 20044-7611, and should refer to United States v. Aetna, Inc., et al. D.J. Ref. 90-11-3-1762/1.

The Aetna, Inc. et al. Consent Decree may be examined at the Office of the United States Attorney for the Western District of Pennsylvania, at 700 Grant Street, Suite 400, Pittsburgh, PA 15219 (ask for Jessica Lieber Smolar) and at U.S. EPA Region III's Office, 1650 Arch Street, Philadelphia, PA (ask for Mary Rugala). During the public comment period, the United States v. Aetna, Inc., et al. consent decree, may also be examined on the following Department of Justice Web site, http://www.usdoj.gov/enrd/open.html. A copy of the consent decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $31.00 (25 cents per page reproduction cost) for a full copy of the consent decree, or $13.00, for a copy without signature pages, payable to the U.S. Treasury.

Robert Brook,
Assistant Chief, Environmental Enforcement Section, Environment and Natural Resources Division.

[FR Doc. 05-2004 Filed 2-2-05; 8:45 am]

BILLING CODE 4410-15-M